DEPARTMENT OF COMMERCE

Foreign-Trade Zones Board

[B-25-2016]

Foreign-Trade Zone (FTZ) 133—Quad-Cities, Iowa/Illinois; Notification of Proposed Production Activity, Deere & Company, Subzone 133D (Construction and Forestry Equipment), Davenport, Iowa

Deere & Company (Deere), operator of Subzone 133D, submitted a notification of proposed production activity to the FTZ Board for its facilities within Subzone 133D, located in Davenport, Iowa. The notification conforming to the requirements of the regulations of the FTZ Board (15 CFR 400.22) was received on April 15, 2016.

Deere already has authority to produce motor graders, four wheel drive loaders, log skidders and articulated dump trucks within Subzone 133D. The current request would add construction and forestry equipment and foreign-status materials/components to the scope of authority. Pursuant to 15 CFR 400.14(b), additional FTZ authority would be limited to the specific foreign-status materials/components and specific finished products described in the submitted notification (as described below) and subsequently authorized by the FTZ Board.

Production under FTZ procedures could exempt Deere from customs duty payments on the foreign-status materials/components used in export production. On its domestic sales, Deere would be able to choose the duty rates during customs entry procedures that apply to: Wheeled feller bunchers; disc saw felling heads; and, cabs for knuckleboom loaders, backhoes, loaders, motor graders, feller bunchers, log skidders and articulated dump trucks (duty rates: Free or 4%) for the foreign-status materials/components noted below and in the existing scope of authority. Customs duties also could possibly be deferred or reduced on foreign-status production equipment.

The materials/components sourced from abroad include: Plastic ribbed conduits/labels/anti-skid pads/floor mat plugs/spacers/ashtrays/rings; nylon domed plugs; rubber hoses/elbows/belts/v-belts/tires/floor mats/O-rings/O-ring kits/PTO (power take-off) housings/gaskets/seals/seal kits/sealing trims/isolators/ring guides/air deflectors/arched covers/insulators/grommets/isolator strips/bellows/bellow boots/spacers/splash guards/step straps/stop bumpers/tray foot bumpers/vibration dampeners; cork gaskets; paper gaskets; glass rear view mirrors; steel push pull cables/wiring harness cables/link chains/alloy clevis plates/clothes hooks/screws/bolts/planetary hub studs/alloy hexagon fittings/nuts/locking collars/pins/plugs/washers/G-rings/seal retainers/washer and spacer kits/pneumatic control valves/rings/alloy disk saw drive rings/pin fasteners/retainers/retainer clips/springs/spring assemblies/spring kits/alloy raw castings/adapter fittings/air conditioning fittings/spacers/clamps/beaded special adaptors/shims/corner brackets/elbow fittings/excavator thumb kits/fittings/fitting plugs/flange fitings/fuel supply banjo fittings/hose clamps/hydraulic clamp kits/lock kits/lower carrier plates/lubrication fittings/mounting adapters/oil line tube assemblies/oil tubes/plates/plugs with O-ring fittings/power link casting assemblies/PTO flanges/pushbeam trunnions/serrated yoke flanges/skid shoes/straps/steering column sleeves/toolboxes/toolbox covers/tubes/tube fittings/clamp halves/upper carrier plates/valve section plug kits/weldment adapters; iron lock plates/mounting adapters; brass washers; copper electrical connector accessories; aluminum washers; tooth kits; tooth inserts; lock-ring tools; cutting blades; cutting edges; bucket tooth locks; bucket weldment hinges; exterior steel hinges; gas-operated cylinders; brackets; latches; engine mount supports; gear case isolators; hood catch assemblies; hood compartment studs; hood springs; interior cab handles; mounting parts; oscillation stops; rear suspension stops; rubber boom stops; sliding window catches; filler caps; diesel engines; air intakes; cylinder covers; cylinder heads; engine cooler clamps; exhaust elbows; gas outlet tubes; high pressure fuel lines; intake manifolds; oil pans; orifices; pistons; piston ring kits; rotate manifolds; seal rings; seal liner rings; short block assemblies; spacer tubes; threaded inserts; timing gear covers; lumber fork cylinders; master brake cylinders; hydraulic cylinders; thumb kit clamps; hydraulic motors; brake cylinders; dust covers; hydraulic cylinder rod guides; steering cylinder rods; cooler bypass manifolds; hydraulic manifolds; pressure manifolds; hydraulic reservoirs; pumps (fuel injection, fuel, oil, water, hydraulic, steering metering); pump repair kits; DEF (diesel exhaust fluid) lines; heat sleeves; drive shafts; hydraulic reservoirs; air conditioner compressors; HVAC (heating, venting and air conditioning) blowers; turbochargers; compressor kits; fan blades; fan drives; piston-liner kits; air conditioners (AC); HVAC equipment; vapor condensers; AC/heater evaporators; refrigerant hoses; Hayden coolers; filters (fuel, hydraulic, oil, air, reservoir breather, pneumatic exhaust, headlight venting); oil filter elements; receiver-dryers; pre-filters; air dryers; filter discs; filter elements; filter heads; oil filter covers; strainers; transmission shafts; catwalk platforms; counterweight weldments; jib booms; main booms; outrigger stabilizers; rotary manifolds for forestry equipment; bucket plates; loader buckets; loader cutting edges; grapple hooks; multi-purpose buckets; backhoe buckets; excavator buckets; skid steer buckets; dura-max cutting edges; backhoe hydraulic clamp kits; axle stop blocks; battery boxes; controller arm supports; cooler tubes; exhaust tubes; front axle limited slip differentials; fuel tank assemblies; grapple teeth; grille frames; grommet plates; heater/AC brackets; lower carrier plates; oil lines; outrigger arms; pedal and bracket assemblies; pilot arm strut supports; rear axles; scarifier booms; seat swivel assemblies; sliding frames; soft start brackets; steering columns; support plates; tie rod assemblies; tie rod ends; upper carrier plates; valve mounting plates; moldboards; air intake plates; air plenums; yoke assemblies; axle drive housings; axle oscillation supports; axles with differentials; baffle structures; baffle supports; battery service doors; boom crossmember tubes; bottom guard supports; brake pistons; brake rotors; brush guards; bucket teeth; bucket tooth adapters; bulkhead assembly plates; bumper brackets; cast mounts; cast steps; clamp rings; controller brackets; counterweights; covers; cover plate kits; cutting edges; decomposition tubes; DEF tank lid covers; differential case covers; differential housings; drive damper covers; end bits; end kits; engine mount supports; engine side shield supports; exhaust aftertreatment brackets; exhaust nozzles; exhaust support brackets; fan guards; filter supports; floor plates; fork tine assemblies; frame kits; front axles; fuel line filters; fuel tank bracket plates; fuel tank guards; generator pump drive supports; guard extensions; hand rails; heat shield mount plates; hood supports; housings with covers; hub kingpins; hydraulic reservoirs; insert support plates; isolators; lift arms; lift lug plates; main drive axles and tandem pivot; mount frames; mounting plates; multifunction cab levers; oil coolers; outlet duct plates; overlay end bits; pilot tower arms; pump spacers; pushbeam trunnions; radiators; rear axle guards; rear tube guards; ripper shanks; ripper teeth; scarifier links; scarifier retainers; side cutter plates; side shield bumpers; sidecutter shrouds; skid plates; slide weldment supports; step assemblies; rubber stop bumpers; steering stop bumpers; supports; threaded stud bumpers; transmission guard shields; transmission mounts; wear plates; rear wheel gauge frames; ripper points; safety trip standards; wheel plates; scraper arms; 180 degree tubes; adaptor plates; arm assemblies; arm kits; boom assembly adapters; disc saw felling head link assemblies; hydraulic system assembly tubes; axle guards; axles with differential; boom adapters; boom tubes; butt plates; cab guards; casting covers; charge air tubes; clean out covers; cooling return tubes; crank bars; disc saw felling head frames; engine mount supports; felling heads; filter box covers; frame guard doors; front shields for forestry equipment; fuel fill covers; fuel tanks; harvesting arm housings; hose guide plate guards; hose straps; hydraulic pump supports; hydraulic reservoirs for forestry equipment; hydraulic system tubes; hydraulic tank covers; hydraulic tubes; inner arm housings; knuckleboom lower frames; lift arm bellcranks; lift arm shims; lift links; link assemblies; log forks; main boom hydraulics tubes; main cylinder tubes; main frames; oil lines; oil line tubes; oil tubes; painted cover plates; pilot lines tubes; power link castings; power management tubes; pressure tubes; radiator hose tubes; radio mount housings; retainer plates; saw motor adapters; saw motor tubes; sawhead cranks; shims for forestry equipment; side hoods; wear rod kits; spring guards; stabilizer feet; stick cylinder tubes; structural tubes; suction tubes; support manifold brackets; surge tank brackets; test manifolds; torque arm brackets; transmission mount brackets; valve mount brackets; wear resistant teeth; wrist bearings; wrist frames; form dies; accelerator pedals; hydraulic accumulators; compressor valve kits; valves (control, electromagnet, fuel line, hand operated, hydraulic/pilot control, manifold, radiator drain, return, spool, unloader, check, pressure relief, drain, solenoid, purge tank, park brake, exhaust); valve seal kits; valve reducer caps; quick couplers; electrohydraulic controllers; temperature switches; thermostats; electrical connector assemblies; rotary manifolds; hydraulic manifolds; articulated dump truck repair kits; return manifolds; valve section plunger kits; directional control coils; thermostat covers; ball bearings; roller bearings; tapered roller bearings; spherical roller bearings; needle bearings; cylindrical roller bearings; bearing cups; camshafts; differential shafts; pinion shafts; planetary assemblies; universal drive shafts; spherilastic bearings; air compressor bushings; cab isolators; clevis kits; connecting rod bearing kits; elastomeric bearings; engine rod bearing kits; loader boom bushings; loader mainframe bushings; main bearing kits; mirror support bushings; pin and bushing kits; pivot bushings; steel bushings; steering cylinder bushings; tapped bosses; wear rings; gear cases; planetary assemblies; half axles; transmissions; flywheels; alternator pulleys; U joint assemblies; universal joints; auxiliary drive gears; bevel gears; bevel gear drives; boom gears; fork tines; idler covers; oil circulation differential lock blocks; pinion shafts; planet pinions; planet pinion carriers; planetary assemblies; planetary gears; pump gears; ring gears; ring gears and pinions; transmission speed sensor covers; universal joint yokes; clutch plates; planet pinion carriers; planetary assemblies; cover kits; cylinder block gaskets; cylinder head gaskets; exhaust gaskets; oscillation seals; return manifolds; ring seals; turbocharger gaskets; hand tools; hydraulic tank gaskets; ring seals; seal kits; sealing rings; turbocharger gaskets; oil seals; ring seals; seal kits; electric motors; sensor resolver kits; magnetic drain plugs; engine shutdown solenoids; solenoid kits; starter motors; 12 teeth pinions; brush sets; strobe lights; travel warning alarms; wiper arms; wiper blades; radar sensors; satellite modules; GSM (global system for mobile communication)/GPS (global positioning system) antennas; iridium satellite antennas; multiband antennas; 12 volt monitors; computer monitors; dot matrix monitors; display tractor information monitors; ground speed sensors; operator display monitors; vehicle monitors; resistor networks; resistor connectors; circuit boards; change over relays; switches (rotary, push, coil spring, instrument panel, motion control); bucket control levers; multi-functional controllers; motor kits; electrical connector terminals; electrical connector assemblies; control kits; electrohydraulic controllers; electronic control units; joystick grips; monitor consoles; transmission controllers; vehicle controllers; vehicle monitors; multifunction canopy levers; 24 volt bulbs; socket outlets; control modules; speed sensors; wiring harnesses; wire cables; step assemblies; cab doors; cab door housings; cab door latch housings; cab roofs; cooler lid covers; e-module covers; engine compartment hoods; front dash panels; grilles; grille housings; grille kits; head light covers; headlight guards; hood latch rods; interior panels; hoods; mini hoods; mirror plates; mudguard extensions; oscillation frames; radio face plates; bumpers; side hood shields; sliding windows; sun visors; transmission cases; wheel curtain covers; brake caliper guards; brake disks; brake caliper pipes; brake lines; brake pads; brake piston kits; brake piston seal kits; brake seals; disk brake caliper assemblies; front brake pipes; park brake assemblies; rear brake pipes; throttle brake housings; transmissions; gear cases; axle housings; ball joint sockets; carrier ring gears; cross and bearing assemblies; differentials; output gears; planet pinion carrier assemblies; retainer plates; steel yokes; stub pivots; sun gears; universal joint crosses; axles with differential; hub housings; rear drive axles; planetary hub spindles; universal joints; bead seat bands; 5 piece wheels; rim and wheel centers; strut cylinder rods; exhaust pipes; clutch housings; PTO flanges; steering columns; steering column kits; steering column supports; steering shafts; ring gears; spline hubs; universal joints with shafts; axle guards; axle guard doors; bellow kits; belly pans; belly pan covers; belt tensioners; coolant lines; decomposition tube assemblies; fan supports; fuel lines; lever kits; lower cylinder guards; oil lines; platform supports; pressure lines; rear shields; shafts; shields; support frames; upper cylinder guards; water tank assemblies; dust cover flanges; input lids; oil tubes; universal joints; accelerator throttles; air cleaner covers; alternator supports; articulation guards; axle guards; axle guard doors; back covers; bin mounting plates; bin pivot bushings; bin pole frames; block clamps; brake adjuster kits; brake pipe guards; brake saddles; breather pipes; cab coat straps; compressor adaptors; control panels; coolant tubes; couplings; cover plates; decal panel shields; decomposition tube assemblies; drag links; eccentric shaft kits; emergency exit hammer holders; engine breather covers; exhaust shields; extension mudguards; fan shrouds; firewall plates; flex swivel adaptors; forged mount supports; front brake pipes; front chassis plates; front frame cross members; front shields; handrails; headlight covers; heat shields; in tank filter lids; indexing rings; lever kits; light cover plates; line pipes; mid-section frames; middle shields; mounting step mudguards; multifunction levers; oil cooler pipes; oil lines; oscillating joint bushings; oscillation tube bushings; pedal sleeves; perforated steps; planet carriers; plate seals; PTO housings; rear brake pipes; rear plates; rear shields; reservoirs; retainer plates; front mudguards; sealing plates; sensor plates; shields; shock absorbers; side shafts; spacer plates; steel supports; steering column covers; suction pipes; support guards; support structures; tank lid covers; timing cases; tube outlets; universal joint crosses; universal joint yokes; upper cylinder guards; valve guards; ventilated disks; walking beam mounting parts; water pump inlet pipes; water tank weldments; window plate guards; wiper housings; wire harness supports; temperature sensors; fuel senders; level sensors; oil pressure senders; engine oil dipsticks; level gauges; transmission oil dipsticks; engine oil pressure senders; pressure sensors; air intake sensors; chemical sensors; engine controllers; seat frames; seat swivels; armrests; backrest plates; seat covers; seat swivel kits; inner arm assemblies; and electrical lighters (duty rates range from free to 9%).

Public comment is invited from interested parties. Submissions shall be addressed to the FTZ Board's Executive Secretary at the address below. The closing period for their receipt is June 13, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: April 26, 2015.
Andrew McGilvray,
Executive Secretary.

[FR Doc. 2016-10241 Filed 4-29-16; 8:45 am]

BILLING CODE 3510-DS-P